DEPARTMENT OF HEALTH AND HUMAN SERVICES

National Institutes of Health

Center for Scientific Review; Amended Notice of Meeting

Notice is hereby given of a change in the meeting of the Molecular and Cellular Endrocrinology Study Section, June 15, 2006, 8 a.m. to June 16, 2006, 5 p.m. Double Tree Hotel, 8120 Wisconsin Ave, Bethesda, MD, 20814 which was published in the Federal Register on April 28, 2006, 71 FR 25181-25184.

The meeting will be held at the Ramada Inn, Rockville, 1775 Rockville Pike, Rockville, MD 20851. The meeting dates and time remain the same. The meeting is closed to the public.

Dated: June 6, 2006.
Anna Snouffer,
Acting Director, Office of Federal Advisory Committee Policy.

[FR Doc. 06-5312 Filed 6-12-06; 8:45 am]

BILLING CODE 4140-01-M